DEPARTMENT OF ENERGY

Federal Energy Regulatory Commission

Combined Notice of Filings # 2

July 03, 2008.

Take notice that the Commission received the following electric corporate filings:

Docket Numbers: ER06-1489-002.

Applicants: S.A.C. Energy Investments, L.P.

Description: SAC Energy Investments, LP submits an updated market power analysis, request for Category 1 Seller, and rate schedule revisions pursuant to Order 697 and 697-A.

Filed Date: 06/30/2008.

Accession Number: 20080702-0007.

Comment Date: 5 p.m. Eastern Time on Monday, July 21, 2008.

Docket Numbers: ER06-19-004; ER06-761-003; ER08-620-001.

Applicants: NewPage Energy Services, LLC; Rumford Paper Company; Luke Paper Company.

Description: NewPage Energy Services, LLC et al. submits the Updated Market Power Analysis proposed tariff amendments pursuant to Order 697.

Filed Date: 06/30/2008.

Accession Number: 20080702-0194.

Comment Date: 5 p.m. Eastern Time on Monday, July 21, 2008.

Docket Numbers: ER06-234-001; ER04-1222-001.

Applicants: Deutsche Bank AG; DB Energy Trading LLC.

Description: Deutsche Bank AG et al. submits an application for designation as Category 1 sellers pursuant to Orders 697 and 697-A compliance filings, in the alternative, providing updated market power analysis etc.

Filed Date: 06/30/2008.

Accession Number: 20080702-0211.

Comment Date: 5 p.m. Eastern Time on Monday, July 21, 2008.

Docket Numbers: ER06-271-001; ER06-270-001.

Applicants: Solios Power LLC; Solios Asset Management LLC.

Description: Solios Power, LLC and Solios Asset Management, LLC submits a request for Category 1 Seller Classification and compliance filing.

Filed Date: 06/30/2008.

Accession Number: 20080702-0094.

Comment Date: 5 p.m. Eastern Time on Monday, July 21, 2008.

Docket Numbers: ER06-740-003.

Applicants: Indeck Energy Services of Silver Springs.

Description: Indeck Energy Services of Silver Springs, Inc. submits an application for determination of their status as a Category 1 seller pursuant to Order 697.

Filed Date: 06/30/2008.

Accession Number: 20080702-0199.

Comment Date: 5 p.m. Eastern Time on Monday, July 21, 2008.

Docket Numbers: ER06-1399-006.

Applicants: Sunbury Generation LP.

Description: Sunbury Generation LP submits its compliance filing pursuant to Order 697 issued by FERC on 6/21/07.

Filed Date: 06/27/2008.

Accession Number: 20080702-0187.

Comment Date: 5 p.m. Eastern Time on Friday, July 18, 2008.

Docket Numbers: ER07-30-002.

Applicants: RC Cape May Holdings, LLC.

Description: RC Cape May Holdings, LLC submits an updated market power analysis in support of its continued authorization to make wholesale sales electric energy, capacity and ancillary services at market-based rates.

Filed Date: 06/27/2008.

Accession Number: 20080701-0030.

Comment Date: 5 p.m. Eastern Time on Friday, July 18, 2008.

Docket Numbers: ER07-1019-005; ER07-1020-005; ER07-1021-005.

Applicants: Niagara Mohawk Power Corporation.

Description: Niagara Mohawk Power Corp. submits amended interconnection agreements with Alliance Energy et al.

Filed Date: 06/30/2008.

Accession Number: 20080702-0012.

Comment Date: 5 p.m. Eastern Time on Monday, July 21, 2008.

Docket Numbers: ER07-1050-001.

Applicants: PJM Interconnection, LLC.

Description: PJM Interconnection, LLC submits revised sheets to the PJM Open Access Transmission Tariff and the Amended and Restated Operating Agreement of PJM Interconnection, LLC etc.

Filed Date: 06/30/2008.

Accession Number: 20080702-0117.

Comment Date: 5 p.m. Eastern Time on Monday, July 21, 2008.

Docket Numbers: ER07-1088-001.

Applicants: RBC Energy Services LP.

Description: RBC Energy Services, LP's Order 697 Compliance Filing, Application for Category 1 Status, and filing of pro forma tariff changes.

Filed Date: 06/30/2008.

Accession Number: 20080702-0005.

Comment Date: 5 p.m. Eastern Time on Monday, July 21, 2008.

Docket Numbers: ER07-1106-001.

Applicants: ArcLight Energy Marketing, LLC.

Description: ArcLight Energy Marketing, LLC submits request for Category 1 Seller classification in the Northeast region etc.

Filed Date: 06/30/2008.

Accession Number: 20080702-0128.

Comment Date: 5 p.m. Eastern Time on Monday, July 21, 2008.

Docket Numbers: ER07-1193-001.

Applicants: CPV Liberty, LLC.

Description: CPV Liberty, LLC submits a market power update in compliance with the Commission's order granting CPV Liberty's market-based rate authority, and Order 697.

Filed Date: 06/30/2008.

Accession Number: 20080702-0127.

Comment Date: 5 p.m. Eastern Time on Monday, July 21, 2008.

Docket Numbers: ER07-1212-001.

Applicants: Forked River Power LLC.

Description: Application of Forked River Power LLC for Finding as a Category 1 Seller.

Filed Date: 06/30/2008.

Accession Number: 20080630-5153.

Comment Date: 5 p.m. Eastern Time on Monday, July 21, 2008.

Docket Numbers: ER07-1221-004.

Applicants: Rensselaer Cogeneration LLC.

Description: Rensselaer Cogeneration LLC submits its market power analysis, together with six clean and six redlined copies of its revised tariff reflecting Category 1 status.

Filed Date: 06/30/2008.

Accession Number: 20080702-0123.

Comment Date: 5 p.m. Eastern Time on Monday, July 21, 2008.

Docket Numbers: ER07-1249-004.

Applicants: Lockport Energy Associates, L.P.

Description: Lockport Energy Associates, LP submits its triennial market power analysis with respect to its authority to sell energy, capacity, and ancillary services at market-based rates.

Filed Date: 06/30/2008.

Accession Number: 20080702-0114.

Comment Date: 5 p.m. Eastern Time on Monday, July 21, 2008.

Docket Numbers: ER07-1274-001; ER98-564-010; ER05-111-004; ER08-25-003; ER08-26-003; ER08-685-002.

Applicants: TransCanada Energy Marketing ULC; TransCanada Power Marketing Ltd; TransCanada Hydro Northeast Inc.; Ocean State Power; Ocean State Power II; TransCanada Maine Wind Development Inc.

Description: TransCanada Energy Marketing ULC et al. submits its updated market power analysis supporting their continued authorization to sell power at market-based rates et al.

Filed Date: 06/27/2008; 06/30/2008.

Accession Number: 20080702-0201; 20080702-0202.

Comment Date: 5 p.m. Eastern Time on Friday, July 18, 2008.

Docket Numbers: ER07-274-002.

Applicants: Juice Energy, Inc.

Description: Juice Energy, Inc. notifies FERC that it is a Category 1 seller pursuant to Order 697-A.

Filed Date: 06/27/2008.

Accession Number: 20080701-0047.

Comment Date: 5 p.m. Eastern Time on Friday, July 18, 2008.

Docket Numbers: ER07-352-002.

Applicants: S.D. Warren Company.

Description: SD Warren Company requests for confirmation of Category 1 Status, and waiver of notice requirement of tariff amendments under the Commission's Orders 697 and 697-A.

Filed Date: 06/30/2008.

Accession Number: 20080702-0102.

Comment Date: 5 p.m. Eastern Time on Monday, July 21, 2008.

Docket Numbers: ER07-412-002; ER08-200-002; ER06-1291-002; ER07-565-001; ER07-566-001.

Applicants: Waterbury Generation, LLC, MT. Tom Generating Company LLC, FirstLight Hydro Generating Company, FirstLight Power Resources Management, L, ECP Energy I, LLC.

Description: Waterbury Generation, LLC et al. submits an updated market power analysis to conform to the requirements of Order 697.

Filed Date: 06/30/2008.

Accession Number: 20080702-0096.

Comment Date: 5 p.m. Eastern Time on Monday, July 21, 2008.

Docket Numbers: ER07-466-002.

Applicants: MET MA, LLC.

Description: MET MA, LLC submits Order 697 compliance filing and Application for Category 1 Status.

Filed Date: 06/30/2008.

Accession Number: 20080702-0119.

Comment Date: 5 p.m. Eastern Time on Monday, July 21, 2008.

Docket Numbers: ER07-515-001.

Applicants: Domtar Corporation.

Description: Domtar Corp. submits its Triennial Market Power Update and amendments to its Market-Based Rate Tariff.

Filed Date: 06/30/2008.

Accession Number: 20080702-0091.

Comment Date: 5 p.m. Eastern Time on Monday, July 21, 2008.

Docket Numbers: ER07-818-001.

Applicants: Indeck-Olean Limited Partnership.

Description: Indeck-Olean Limited Partnership submits Order 697 compliance filing and Application for Category 1 Status.

Filed Date: 06/30/2008.

Accession Number: 20080702-0120.

Comment Date: 5 p.m. Eastern Time on Monday, July 21, 2008.

Docket Numbers: ER08-100-002; ER07-265-002.

Applicants: Sempra Energy Trading LLC; Sempra Energy Solutions LLC.

Description: Sempra Energy Trading LLC et al. submits a request for classification of their status as a Category 1 seller pursuant to Order 697-A.

Filed Date: 06/30/2008.

Accession Number: 20080702-0014.

Comment Date: 5 p.m. Eastern Time on Monday, July 21, 2008.

Docket Numbers: ER08-125-004.

Applicants: Luminant Energy Company LLC.

Description: Petition for determination of status as a Category 1 Seller pursuant to Order 697 re Luminant Energy Company LLC.

Filed Date: 06/30/2008.

Accession Number: 20080702-0121.

Comment Date: 5 p.m. Eastern Time on Monday, July 21, 2008.

Docket Numbers: ER08-237-001.

Applicants: Forward Energy LLC.

Description: Forward Energy LLC submits non-material changes in the characteristics relied upon to grant market-based rate authority to Forward Energy.

Filed Date: 06/27/2008.

Accession Number: 20080701-0049.

Comment Date: 5 p.m. Eastern Time on Friday, July 18, 2008.

Docket Numbers: ER08-303-003; ER03-1331-005.

Applicants: Williams Gas Marketing, Inc.; Williams Power Company, Inc.

Description: Supplemental Information of Williams Gas Marketing, Inc.

Filed Date: 06/30/2008.

Accession Number: 20080630-5150.

Comment Date: 5 p.m. Eastern Time on Monday, July 21, 2008.

Docket Numbers: ER08-338-001.

Applicants: Nexen Marketing U.S.A. Inc.

Description: Nexen Marketing USA, Inc submits proposed revisions to Original Sheet 1 et al. to FERC Electric Tariff, Original Volume 1.

Filed Date: 06/30/2008.

Accession Number: 20080702-0011.

Comment Date: 5 p.m. Eastern Time on Monday, July 21, 2008.

Docket Numbers: ER08-364-003.

Applicants: APX, Inc.

Description: APX, Inc request that the Commission find that it qualifies as a Category 1 seller in accordance with Order 697.

Filed Date: 06/30/2008.

Accession Number: 20080702-0010.

Comment Date: 5 p.m. Eastern Time on Monday, July 21, 2008.

Docket Numbers: ER08-387-005; ER07-254-008; ER08-912-001; ER08-933-001; ER07-195-008; ER08-934-002; ER07-1378-007.

Applicants: Casselman Windpower, LLC, Providence Heights Wind, LLC, Locust Ridge Wind Farm, LLC, Lempster Wind, LLC, IBERDROLA RENEWABLES, Inc., Locust Ridge II, LLC, Atlantic Renewables Projects II LLC.

Description: Application for Determination of Category 1 Status.

Filed Date: 06/30/2008.

Accession Number: 20080630-5154.

Comment Date: 5 p.m. Eastern Time on Monday, July 21, 2008.

Docket Numbers: ER08-415-002.

Applicants: Potomac Electric Power Company.

Description: Potomac Electric Power Co submits its compliance filing with the required modifications to the Construction Agreement with Mirant Mid-Atlantic, LLC.

Filed Date: 06/27/2008.

Accession Number: 20080702-0103.

Comment Date: 5 p.m. Eastern Time on Friday, July 18, 2008.

Docket Numbers: ER08-656-002; ER96-25-033; ER01-1363-011.

Applicants: Shell Energy North America (U.S.), L.P.; Coral Power, L.L.C.; Coral Energy Management, LLC.

Description: Shell Energy North American (US), LP et al. submits an updated market power analysis and notice of change in status in compliance with Order 697-A.

Filed Date: 06/30/2008.

Accession Number: 20080702-0090.

Comment Date: 5 p.m. Eastern Time on Monday, July 21, 2008.

Docket Numbers: ER08-760-002.

Applicants: California Independent System Operator Corporation.

Description: California Independent System Operator Corporation submits revisions to the ISO Tariff & Revisions to include designation of a TCPM Capacity Resource etc in compliance with the Commission's 3/30/08 Order.

Filed Date: 06/30/2008.

Accession Number: 20080702-0125.

Comment Date: 5 p.m. Eastern Time on Monday, July 21, 2008.

Docket Numbers: ER08-780-003.

Applicants: PJM Interconnection, L.L.C.

Description: PJM Interconnection, LLC submits the Amended and Restated Operating Agreement of the PJM Open Access Transmission Tariff in compliance with the 5/30/08 Order.

Filed Date: 06/30/2008.

Accession Number: 20080702-0116.

Comment Date: 5 p.m. Eastern Time on Monday, July 21, 2008.

Docket Numbers: ER08-806-001.

Applicants: Midwest Independent Transmission System Operator, Inc.

Description: Midwest Independent Transmission System Operator, Inc submits the Substitute First Revised Large Generator Interconnection Agreement with Summit Wind, LLC et al. in compliance with the Commission's 5/28/08 Order.

Filed Date: 06/30/2008.

Accession Number: 20080702-0013.

Comment Date: 5 p.m. Eastern Time on Monday, July 21, 2008.

Docket Numbers: ER08-1049-001.

Applicants: MidAmerican Energy Company.

Description: MidAmerican Energy Company submits Substitute First Revised Sheet 201 to their Open Access Transmission Tariff etc, effective 8/1/08.

Filed Date: 06/30/2008.

Accession Number: 20080702-0100.

Comment Date: 5 p.m. Eastern Time on Monday, July 14, 2008.

Docket Numbers: ER08-1050-001.

Applicants: Dragon Energy LLC.

Description: Dragon Energy, LLC submits revisions to its application for authorization to make wholesale sales of energy and capacity etc.

Filed Date: 07/01/2008.

Accession Number: 20080702-0082.

Comment Date: 5 p.m. Eastern Time on Tuesday, July 11, 2008.

Docket Numbers: ER08-1051-001.

Applicants: NSTAR Electric Company.

Description: NSTAR Electric Company—CWIP Supplement to Annual Informational Filing.

Filed Date: 06/30/2008.

Accession Number: 20080630-5060.

Comment Date: 5 p.m. Eastern Time on Friday, July 11, 2008.

Docket Numbers: ER08-1125-001.

Applicants: Brookfield Renewable Energy Marketing US.

Description: Brookfield Renewable Energy Marketing US LLC submits an amendment to its Application for Market-Based Rate Authorization etc.

Filed Date: 06/27/2008.

Accession Number: 20080701-0080.

Comment Date: 5 p.m. Eastern Time on Friday, July 18, 2008.

Docket Numbers: ER08-1160-000.

Applicants: Sconza Candy Company.

Description: Withdrawal of Notification of Succession/Change of Ownership for Sconza Candy Company under ER08-1160.

Filed Date: 07/01/2008.

Accession Number: 20080701-5073.

Comment Date: 5 p.m. Eastern Time on Tuesday, July 22, 2008.

Docket Numbers: ER08-1164-000.

Applicants: Escanaba Paper Co.

Description: Escanaba Paper Co submits an application for market-based rate authorization and certain waivers and blanket authorizations.

Filed Date: 06/27/2008.

Accession Number: 20080702-0189.

Comment Date: 5 p.m. Eastern Time on Friday, July 18, 2008.

Docket Numbers: ER08-1172-000.

Applicants: Grand Ridge Energy LLC.

Description: Grand Ridge Energy LLC submits authorization to make market-based wholesale sales of energy, capacity, and ancillary services under Grand Ridge's FERC Electric Tariff 1.

Filed Date: 06/30/2008.

Accession Number: 20080702-0105.

Comment Date: 5 p.m. Eastern Time on Monday, July 21, 2008.

Docket Numbers: ER08-1174-000.

Applicants: Southwestern Electric Power Company.

Description: Southwestern Electric Power Co submits a notice of cancellation of First revised Rate Schedule 109 et al.

Filed Date: 06/27/2008.

Accession Number: 20080701-0055.

Comment Date: 5 p.m. Eastern Time on Friday, July 18, 2008.

Docket Numbers: ER08-1182-000.

Applicants: Southern California Edison Company.

Description: Southern California Edison Co submits revised rate sheets to the Interconnection Facilities Agreement with the City of Industry.

Filed Date: 06/30/2008.

Accession Number: 20080701-0064.

Comment Date: 5 p.m. Eastern Time on Monday, July 21, 2008.

Docket Numbers: ER08-1183-000.

Applicants: Portland General Electric Company.

Description: Portland General Electric Co submits proposed revisions to Schedules 4 and 4-R.

Filed Date: 06/30/2008.

Accession Number: 20080701-0065.

Comment Date: 5 p.m. Eastern Time on Monday, July 21, 2008.

Docket Numbers: ER08-1185-000.

Applicants: Avista Corporation.

Description: Avista Corp submits an amended and restated Interconnection and Operating Agreement with Northern Lights, Inc.

Filed Date: 06/30/2008.

Accession Number: 20080702-0083.

Comment Date: 5 p.m. Eastern Time on Monday, July 21, 2008.

Docket Numbers: ER08-1186-000.

Applicants: Duke Energy Shared Service, Inc.

Description: Duke Energy Shared Services, Inc submits Notice of Cancellation of the Duke Midwest Operating Companies, FERC Electric tariff, First Revised Volume 8.

Filed Date: 06/30/2008.

Accession Number: 20080702-0124.

Comment Date: 5 p.m. Eastern Time on Monday, July 21, 2008.

Docket Numbers: ER08-1187-000.

Applicants: American Transmission Systems, Incorporated.

Description: American Transmission Systems, Inc submits a Construction Agreement with Northern Lights, Inc. et al.

Filed Date: 06/30/2008.

Accession Number: 20080702-0084.

Comment Date: 5 p.m. Eastern Time on Monday, July 21, 2008.

Docket Numbers: ER08-1188-000.

Applicants: Central Maine Power Company.

Description: Central Maine Power Co submits its annual update to the formula rates in Schedule 21-CMP, to be effective 6/1/08.

Filed Date: 06/30/2008.

Accession Number: 20080702-0085.

Comment Date: 5 p.m. Eastern Time on Monday, July 21, 2008.

Docket Numbers: ER08-1189-000.

Applicants: IndeckYerkes Ltd Partnership.

Description: Indeck-Yerkes LP submits an application for order accepting initial tariff and granting Category 1 status pursuant to Order 697.

Filed Date: 06/30/2008.

Accession Number: 20080702-0155.

Comment Date: 5 p.m. Eastern Time on Monday, July 21, 2008.

Docket Numbers: ER08-1190-000.

Applicants: RPL Holdings, Inc.

Description: RPL Holdings, Inc submits its proposed FERC Electric Tariff, Original Volume 2 and supporting cost data under ER08-1190.

Filed Date: 07/01/2008.

Accession Number: 20080702-0158.

Comment Date: 5 p.m. Eastern Time on Tuesday, July 22, 2008.

Docket Numbers: ER08-1191-000.

Applicants: The American Electric Power Service Corp.

Description: The American Electric Power Service Corp on behalf of AEP Operating Companies submits a third revision to the Interconnection and Local Delivery Service Agreement with the City of St Clairsville.

Filed Date: 06/30/2008.

Accession Number: 20080702-0087.

Comment Date: 5 p.m. Eastern Time on Monday, July 21, 2008.

Docket Numbers: ER08-1192-000.

Applicants: El Paso Electric Company.

Description: El Paso Electric Co submits the Facilities Modification and Construction Agreement for Holloman Station et al. upgrades with Public Service Co of New Mexico.

Filed Date: 06/30/2008.

Accession Number: 20080702-0088.

Comment Date: 5 p.m. Eastern Time on Monday, July 21, 2008.

Docket Numbers: ER08-1194-000.

Applicants: Columbia Energy LLC.

Description: Columbia Energy LLC submits its Rate Schedule FERC No. 1, to be effective 7/1/08.

Filed Date: 06/30/2008.

Accession Number: 20080702-0089.

Comment Date: 5 p.m. Eastern Time on Monday, July 21, 2008.

Docket Numbers: ER08-1196-000.

Applicants: New York Independent System Operator, Inc.

Description: New York Independent System Operator, In submits proposed amendment to its Market Administration and Control Area Services Tariff.

Filed Date: 07/01/2008.

Accession Number: 20080703-0145.

Comment Date: 5 p.m. Eastern Time on Tuesday, July 22, 2008.

Docket Numbers: ER08-1197-000.

Applicants: Southwest Power Pool, Inc.

Description: Southwest Power Pool, Inc submits a notice of cancellation for a Network Integration Transmission Service Agreement etc under ER08-1197.

Filed Date: 07/01/2008.

Accession Number: 20080703-0146.

Comment Date: 5 p.m. Eastern Time on Tuesday, July 22, 2008.

Docket Numbers: ER08-1198-000.

Applicants: Southwestern Electric Power Company.

Description: Southwestern Electric Power Co submits the actuarial reports with respect to actual post-employment benefits other than pensions etc.

Filed Date: 07/01/2008.

Accession Number: 20080703-0144.

Comment Date: 5 p.m. Eastern Time on Tuesday, July 22, 2008.

Docket Numbers: ER08-1199-000.

Applicants: Southwest Power Pool, Inc.

Description: Southwest Power Pool, Inc submits an executed Service Agreement for Network Integration Transmission Service with Kansas Electric Power Cooperative, Inc.

Filed Date: 07/01/2008.

Accession Number: 20080703-0143.

Comment Date: 5 p.m. Eastern Time on Tuesday, July 22, 2008.

Docket Numbers: ER08-1208-000.

Applicants: American Electric Power Service Corporat.

Description: AEP Operating Companies submits a second revision to the Interconnection and Local Delivery Service Agreement with City of Clyde.

Filed Date: 07/02/2008.

Accession Number: 20080703-0149.

Comment Date: 5 p.m. Eastern Time on Wednesday, July 23, 2008.

Take notice that the Commission received the following public utility holding company filings:

Docket Numbers: PH08-30-000.

Applicants: General Electric Company.

Description: Revised Exemption Notification of General Electric Company.

Filed Date: 06/30/2008.

Accession Number: 20080630-5157.

Comment Date: 5 p.m. Eastern Time on Monday, July 21, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-16056 Filed 7-14-08; 8:45 am]

BILLING CODE 6717-01-P